DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed reinstatement of the “National Longitudinal Survey of Youth 1979.” A copy of the proposed information collection request (ICR) can be obtained by contacting the individual listed in the ADDRESSES section of this notice.

DATES: Written comments must be submitted to the office listed in the ADDRESSES section below on or before February 6, 2012.

ADDRESSES: Send comments to Nora Kincaid, BLS Clearance Officer, Division of Management Systems, Bureau of Labor Statistics, Room 4080, 2 Massachusetts Avenue NE., Washington, DC 20212. Written comments also may be transmitted by fax to (202) 691-5111 this is not a toll free number).

FOR FURTHER INFORMATION CONTACT: Nora Kincaid, BLS Clearance Officer, (202) 691-7628 (this is not a toll free number). (See ADDRESSES section.)

SUPPLEMENTARY INFORMATION:

I. Background

The National Longitudinal Survey of Youth 1979 (NLSY79) is a representative national sample of persons who were born in the years 1957 to 1964 and lived in the U.S. in 1978. These respondents were ages 14 to 22 when the first round of interviews began in 1979; they will be ages 47 to 56 when the planned twenty-fifth round of interviews is conducted in 2012 and 2013. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986. A battery of child cognitive, socio-emotional, and physiological assessments has been administered biennially since 1986 to NLSY79 mothers and their children. Starting in 1994, children who had reached age 15 by December 31 of the survey year (the Young Adults) were interviewed about their work experiences, training, schooling, health, fertility, self-esteem, and other topics. Funding for the NLSY79 Child and Young Adult surveys is provided by the Eunice Kennedy Shriver National Institute of Child Health and Human Development through an interagency agreement with the BLS and through a grant awarded to researchers at the Ohio State University Center for Human Resource Research (CHRR). The interagency agreement funds data collection for children and young adults up to age 20. The grant funds data collection for young adults age 21 and older. The BLS contracts with the National Opinion Research Center (NORC) at the University of Chicago to conduct the NLSY79 and associated Child and Young Adult surveys.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, and school-to-work transitions. In addition to the reports that the BLS produces based on data from the NLSY79, members of the academic community publish articles and reports based on NLSY79 data for the DOL and other funding agencies. To date, more than 1,800 articles examining NLSY79 data have been published in scholarly journals. The survey design provides data gathered from the same respondents over time to form the only data set that contains this type of information for this important population group. Without the collection of these data, an accurate longitudinal data set could not be provided to researchers and policymakers, thus adversely affecting the DOL's ability to perform its policy- and report-making activities.

II. Current Action

The BLS seeks approval to conduct round 25 of the NLSY79 and the associated surveys of biological children of female NLSY79 respondents. The NLSY79 Child Survey involves three components:

• The Mother Supplement is administered to female NLSY79 respondents who live with biological children under age 15. This questionnaire will be administered to about 560 women, who will be asked a series of questions about each child under age 15. On average, these women each have 1.12 children under age 15, for a total of approximately 630 children.

• The Child Supplement involves aptitude testing of about 615 children under age 15.

• The Child Self-Administered Questionnaire is administered to approximately 490 children ages 10 to 14.

The Young Adult Survey will be administered to young adults age 15 and older who are the biological children of female NLSY79 respondents. These young adults will be contacted regardless of whether they reside with their mothers. Members of the Young Adult sample are contacted for interviews every other round once they reach age 30. The NLSY79 Young Adult Survey involves two components:

• Interviews with approximately 1,390 young adults ages 15 to 20.

• Interviews with approximately 4,530 young adults age 21 and older.

During the field period, about 200 main NLSY79 interviews will be validated to ascertain whether the interview took place as the interviewer reported and whether the interview was done in a polite and professional manner.

The round 25 questionnaire reflects a number of content changes recommended by experts in various social science fields. The round 25 main NLSY79 questionnaire introduces three new questions on childhood health and four new questions on childhood adversity to be asked of all respondents at the end of the health section. The questions on childhood health ask respondents for an overall rating of their childhood health and whether they had significant hospitalizations or illnesses as children. The rationale for including these questions is that early-childhood health experiences may help to predict adult health outcomes. The four questions on childhood adversity ask respondents whether they were raised in environments characterized by mental illness, alcoholism, physical violence, and parental affection. These questions have been found in other surveys to predict obesity and other adult health outcomes. The round 25 questionnaire includes a set of eight questions designed to identify respondents who have experienced a serious head injury or suffered a loss of smell. Traumatic head injury and loss of smell have been linked to subsequent dementia, and these questions will augment other measures of cognitive functioning already collected in the NLSY79. The round 25 questionnaire includes new questions on wills, trusts, and long-term care insurance. Round 25 includes questions on financial literacy and practices, which ask respondents about their preparedness for financial emergencies, their ability to monitor financial matters, and their knowledge of financial concepts. Round 25 also includes questions about assets, which have been asked in several previous rounds of the NLSY79, most recently in round 23.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Reinstatement, with change, of a previously approved collection for which approval has expired.

Agency: Bureau of Labor Statistics.

Title: National Longitudinal Survey of Youth 1979.

OMB Number: 1220-0109.

Affected Public: Individuals or households.

Form | Total respondents | Frequency | Total responses | Average time per response (in minutes) | Estimated total burden (in minutes)
NLSY79 Round 25 Pretest | 100 | Biennially | 100 | 60 | 100
NLSY79 Round 25 Main Survey | 7,550 | Biennially | 7,550 | 60 | 7,550
Round 25 Validation Interviews | 200 | Biennially | 200 | 6 | 20
Mother Supplement (Mothers of children under age 15) | ¹ 560 | Biennially | 630 | 20 | 210
Child Supplement (Under age 15) | 615 | Biennially | 615 | 31 | 318
Child Self-Administered Questionnaire (Ages 10 to 14) | 490 | Biennially | 490 | 30 | 245
Young Adult Survey (Ages 15 to 20) | 1,390 | Biennially | 1,390 | 51 | 1,182
Young Adult Survey, Grant component (Age 21 and older) | 4,530 | Biennially | 4,530 | 56 | 4,228
Totals ² | 14,185 |  | 15,505 |  | 13,853
¹ The number of respondents for the Mother Supplement (560) is less than the number of responses (630) because mothers are asked to provide separate responses for each of the biological children with whom they reside. The total number of responses for the Mother Supplement (630) is more than the number for the Child Supplement (615) because the number of children completing the Child Supplement is lower due to age restrictions and nonresponse.
² The total number of 14,185 respondents across all the survey instruments is a mutually exclusive count that does not include: (1) the 200 reinterview respondents, who were previously counted among the 7,550 main survey respondents, (2) the 560 Mother Supplement respondents, who were previously counted among the main survey respondents, and (3) the 490 Child SAQ respondents, who were previously counted among the 615 Child Supplement respondents.

Total Burden Cost (capital/startup): $0.

Total Burden Cost (operating/maintenance): $0.

Comments submitted in response to this notice will be summarized and/or included in the request for Office of Management and Budget approval of the information collection request; they also will become a matter of public record.

Signed at Washington, DC this 5th day of December 2011.
Kimberley D. Hill,
Chief, Division of Management Systems, Bureau of Labor Statistics.

[FR Doc. 2011-31525 Filed 12-7-11; 8:45 am]

BILLING CODE 4510-24-P